DEPARTMENT OF HEALTH AND HUMAN SERVICES

Office of Inspector General

Program Exclusions: October 2001

AGENCY: Office of Inspector General, HHS.

ACTION: Notice of program exclusions.

During the month of October 2001, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, City, State | Effective Date
Program-Related Convictions
ANTONUCCI, LEONARD | 11/20/2001
BAYSIDE, NY
BUKHARI, SAMAD | 11/20/2001
SANTA ANA, CA
ELENKIWICH, LYLE G | 11/20/2001
YANKTON, SD
HEFFERNAN, THOMAS | 11/20/2001
CINCINNATI, OH
JAIN, TARUN | 11/20/2001
FORT GRATIOT, MI
MUHAMED, MUNIR A T | 11/20/2001
HENDERSON, NV
PUSHKIN, YURI Y | 11/20/2001
COLUMBUS, OH
ROBERT A. ROSEVEAR D D S, P C | 08/27/2001
LEAWOOD, KS
SANDOVAL, DANNY A | 11/20/2001
AURORA, CO
STRAUSBERG, LEE EVERETT | 11/20/2001
DAYTON, OH
WOODRUM, DOROTHY A | 11/20/2001
SHELBURNE, VT
Felony Conviction for Health Care Fraud
LENIU, GRACE FAITAMALII | 11/20/2001
TEMECULA, CA
Felony Control Substance Conviction
CUMMINGS, REGINA DAWN | 11/20/2001
LOUISVILLE, KY
DILL, CHRISTY APRIL | 11/20/2001
MARYVILLE, TN
SPRENGER, CRAIG R | 11/20/2001
FARGO, ND
Patient Abuse/Neglect Convictions
EMMONS, HOLLY ANN | 11/20/2001
IONIA, MI
FROMMELT, JEFFREY PAUL | 11/20/2001
CEDAR RAPIDS, IA
HILL, SHERYL | 11/20/2001
CLEVELAND, OH
INGLES, JEANETTE | 11/20/2001
SHAKOPEE, MN
LOWE, ELLEN M | 11/20/2001
SPRINGFIELD, OH
MILLER, SUSAN JEAN | 11/20/2001
SELDEN, NY
POWELL, NATASHA B | 11/20/2001
WARRENS HGTS, OH
STORER, CARLA S | 11/20/2001
WEST UNION, OH
WALKER, BEATRICE | 11/20/2001
N AUGUSTA, SC
WILCOX, DUSTIN LINCOLN | 11/20/2001
SANDY, UT
Conviction for Health Care Fraud
ROSOL, DEBRA LYNN | 11/20/2001
WAVERLY, IA
License Revocation/Suspension/Surrendered
ABBARNO, AASE JURGENSEN | 11/20/2001
BULLHEAD CITY, AZ
ACKERMAN, MILTON J | 11/20/2001
KAILUA, HI
ANCY, CAROLYN COLLINS | 11/20/2001
BURLESON, TX
AUSTIN, RUBY JEWEL | 11/20/2001
LAWTON, OK
AUSTIN, ALENE JO | 11/20/2001
SHAWNEE, OK
AZGOROV, TODOR PETKOV | 11/20/2001
VAN NUYS, CA
BUDDINGH, SUSANNE E | 11/20/2001
SANTA CLARITA, CA
CHAPMAN, LENORA A | 11/20/2001
PHOENIX, AZ
CLEVELAND, MIRIAM G | 11/20/2001
DES MOINES, IA
COTTON, TINA SUE SAUCIER | 11/20/2001
CLARKSVILLE, AR
COWAN, MORLEY B | 11/20/2001
NASHVILLE, TN
COX, ROY LYNN | 11/20/2001
OMAHA, NE
CUMMINGS, RALEIGH R | 11/20/2001
FOREST FALLS, CA
DENSON, MARK L | 11/20/2001
TUCSON, AZ
EARLEY, ANNA RENEE | 11/20/2001
POTEAU, OK
FINKEN, JEAN ELIZABETH | 11/20/2001
AMARILLO, TX
FOSTER, JERRIL L ANN | 11/20/2001
MONTGOMERY, AL
FREMER, EDWARD M | 11/20/2001
BULLHEAD CITY, AZ
GELO, DEBBIE H | 11/20/2001
NAPLES, FL
GRAVES, JAMES FREDERICK | 11/20/2001
PACE, FL
GREINEDER, DIRK K | 11/20/2001
CONCORD, MA
HAVEN, GERRY BURGESS | 11/20/2001
LAYTON, UT
HOVIS, VICKIE D MITCHELL | 11/20/2001
FYFFE, AL
JONES, PAULA RENEE | 11/20/2001
BAY MINETTE, AL
KELLER, ELLEN J | 11/20/2001
WEBSTER CITY, IA
KENYON, KEITH E | 11/20/2001
VAN NUYS, CA
KLEIN, DONNA MACDONALD | 11/20/2001
CHALFONT, PA
KNALL, PHILIP A | 11/20/2001
SCOTTSDALE, AZ
KROEGER, JANE L | 11/20/2001
SUMNER, IA
LAWAY, SANDRA INGOSAN | 11/20/2001
ESCONDIDO, CA
LEWIS, RUSSELL DEAN | 11/20/2001
ONEONTA, AL
LUJAN, CYNTHIA A | 11/20/2001
TUCSON, AZ
MCCLINTON, M COLLEEN | 11/20/2001
MCALLEN, TX
MITCHELL, ALICE E | 11/20/2001
LUBBOCK, TX
OUR HOUSE, INC | 11/20/2001
HANNIBAL, MO
PACIFIC PLAZA PHARMACY | 11/20/2001
LONG BEACH, CA
PAULK, JAMES MICHAEL | 11/20/2001
VICKSBURG, MS
PIPER, MARVIN A | 11/20/2001
ALTADENA, CA
REYNOLDS, RENEE KAYE | 11/20/2001
FORT DODGE, IA
RICHARDSON, GINA | 11/20/2001
HAMMONTON, NJ
RODGERS, PATRICK | 11/20/2001
LONG BEACH, CA
ROGERS, KAREN R | 11/20/2001
HOCKLEY, TX
SHELLEY, DIANA MARIA | 11/20/2001
SAN ANTONIO, TX
SHIPLEY, LAURA LYNNE | 11/20/2001
LOMITA, CA
SLOAN, MELISSA MAXINE | 11/20/2001
DALLAS, TX
SMART, RITA PAULETTE | 11/20/2001
ST PAUL, MN
SOWELL, DAVID | 11/20/2001
ASHLEY, ND
STEWART, KENNETH LESLIE | 11/20/2001
FRESNO, CA
SWEEDEN, ANITA ANN | 11/20/2001
VAN BUREN, AR
TAYLOR, SHEILA DIANE | 11/20/2001
MADISON, AL
TITA, MOSES NCHO | 11/20/2001
OKLAHOMA CITY, OK
TRABULUS, NORMAL | 11/20/2001
VAN NUYS, CA
VOHAN, JENNIFER A | 11/20/2001
MESA, AZ
WARNER, RICHARD A | 11/20/2001
LOS ANGELES, CA
WETZEL, CHRISTINA L | 11/20/2001
MITCHELLVILLE, IA
WILBUR, FRANK MICHAEL | 11/20/2001
VICTORVILLE, CA
WILLIAMS, SANDRAN J | 11/20/2001
PHOENIX, AZ
WILLIAMS, REBECCA DENISE | 11/20/2001
DENVER, CO
WILSON, FRANCES PETRAIA | 11/20/2001
TALIHINA, OK
Federal/State Exclusion/Suspension
PASCALE, DAWN M | 11/20/2001
GUILFORD, CT
Fraud/Kickbacks
MCCOY, PAUL | 04/20/2001
CHICAGO, IL
REICHLE, FREDERICK | 10/01/2001
WARRINGTON, PA
ROSEVEAR, ROBERT A | 08/27/2001
SHAWNEE MISSION, KS
WILLIAMS, NELLIE | 06/20/2001
EVERGREEN PARK, IL
WILLIAMS, RICARDO | 06/20/2001
EVERGREEN PARK, IL
Owned/Controlled by Convicted Entities
ALAN C ASHKINAZY, D C | 11/20/2001
LAKE WORTH, FL
BROWN'S CHIROPRACTIC CTR. | 11/20/2001
PANAMA CITY, FL
CENTER FOR INTEGRATED HEALTH | 11/20/2001
VENTURA, CA
COLUMBIA HEALTH & REHAB CTR | 11/20/2001
DECATUR, GA
CONFER CLINIC OF CHIROPRACTIC | 11/20/2001
UNIONTOWN, PA
EYE CATCHER OPTICAL | 11/20/2001
BOWLING GREEN, KY
GUYER CHIROPRACTIC | 11/20/2001
SANTA ROSA, CA
INLAND VALLEY CHIROPRACTIC | 11/20/2001
FONTANA, CA
ITHACA MEDICAL GROUP | 11/20/2001
HACIENDA HGTS, CA
KONZA FAMILY HEALTH CENTER | 11/20/2001
MANHATTAN, KS
MELNAR CHIROPRACTIC | 11/20/2001
N LITTLE ROCK, AR
OPTIMUM HEALTH CHIROPRACTIC | 11/20/2001
LAGUNA, CA
PACIFIC FAMILY CLINIC, INC | 11/20/2001
GLENDALE, CA
PIZARRO MEDICAL GROUP, INC | 11/20/2001
WINTER PARK, FL
PROGRESSIVE HEALTH CHIROPRACT | 11/20/2001
VISTA, CA
STEPHEN W RATER, D D S, S C | 11/20/2001
MADISON, WI
WALNUT HILLS FAMILY CHIROPRACT | 11/20/2001
ENGLEWOOD, CO
Default on HEAL Loan
ANDRADE, LUCIO G | 11/20/2001
STAMFORD, CT
AUSTIN, MICHAEL B | 11/20/2001
TAMPA, FL
BORDEAUX, DEBORAHS | 11/20/2001
SURFSIDE, BEACH, SC
CALOMINO, JUDE L | 11/20/2001
SAN CLEMENTE, CA
CONLEY, PAMELA M | 11/20/2001
BAY SAINT LOUIS, MS
COSTANZO, ANTHONY J JR | 11/20/2001
SILVER SPRING, MD
JONES, GERALD WALTER JR | 11/20/2001
MONTCLAIR, NJ
KIRK, PATRICIA ANN | 11/20/2001
LEAGUE CITY, TX
LALIOS, NICHOLAS A | 11/20/2001
MERRILLVILLE, IN
MARCEL, PERRY LEE | 11/20/2001
ROCKWALL, TX
PHARO, ARLETTE NAYLOR | 11/20/2001
HOUSTON, TX
SCHIRCK, PHILLIP M | 11/20/2001
ROCHESTER, NY
SHIVANAND, BHARATHI N | 11/20/2001
N SYRACUSE, NY
SIBOLD, HARRY EUGENE | 11/20/2001
CHARLOTTE, NC
STAUDER, MARK F | 11/20/2001
LOUDON, TN
SWIGERT, MARK E | 11/20/2001
SUMMERDALE, AL
TIBBETTS, NEIL R | 11/20/2001
WORCESTER, MA
VITTOR, VIRGINIA JOYCE | 11/20/2001
UNION, MS
WARFEL, JEANNIE L | 11/20/2001
PLANON, TX

Dated: November 1, 2001.
Maureen Byer,
Acting Director, Health Care Administrative Sanctions, Office of Inspector General.

[FR Doc. 01-28931 Filed 11-19-01; 8:45 am]

BILLING CODE 4150-04-P